Title 3—

The President

Executive Order 13933 of June 26, 2020

Protecting American Monuments, Memorials, and Statues and Combating Recent Criminal Violence

By the authority vested in me as President by the Constitution and the laws of the United States of America, it is hereby ordered as follows:

Section 1. Purpose. The first duty of government is to ensure domestic tranquility and defend the life, property, and rights of its citizens. Over the last 5 weeks, there has been a sustained assault on the life and property of civilians, law enforcement officers, government property, and revered American monuments such as the Lincoln Memorial. Many of the rioters, arsonists, and left-wing extremists who have carried out and supported these acts have explicitly identified themselves with ideologies—such as Marxism—that call for the destruction of the United States system of government. Anarchists and left-wing extremists have sought to advance a fringe ideology that paints the United States of America as fundamentally unjust and have sought to impose that ideology on Americans through violence and mob intimidation. They have led riots in the streets, burned police vehicles, killed and assaulted government officers as well as business owners defending their property, and even seized an area within one city where law and order gave way to anarchy. During the unrest, innocent citizens also have been harmed and killed.

These criminal acts are frequently planned and supported by agitators who have traveled across State lines to promote their own violent agenda. These radicals shamelessly attack the legitimacy of our institutions and the very rule of law itself.

Key targets in the violent extremists' campaign against our country are public monuments, memorials, and statues. Their selection of targets reveals a deep ignorance of our history, and is indicative of a desire to indiscriminately destroy anything that honors our past and to erase from the public mind any suggestion that our past may be worth honoring, cherishing, remembering, or understanding. In the last week, vandals toppled a statue of President Ulysses S. Grant in San Francisco. To them, it made no difference that President Grant led the Union Army to victory over the Confederacy in the Civil War, enforced Reconstruction, fought the Ku Klux Klan, and advocated for the Fifteenth Amendment, which guaranteed freed slaves the right to vote. In Charlotte, North Carolina, the names of 507 veterans memorialized on a World War II monument were painted over with a symbol of communism. And earlier this month, in Boston, a memorial commemorating an African-American regiment that fought in the Civil War was defaced with graffiti. In Madison, Wisconsin, rioters knocked over the statue of an abolitionist immigrant who fought for the Union during the Civil War. Christian figures are now in the crosshairs, too. Recently, an influential activist for one movement that has been prominent in setting the agenda for demonstrations in recent weeks declared that many existing religious depictions of Jesus and the Holy Family should be purged from our places of worship.

Individuals and organizations have the right to peacefully advocate for either the removal or the construction of any monument. But no individual or group has the right to damage, deface, or remove any monument by use of force.

In the midst of these attacks, many State and local governments appear to have lost the ability to distinguish between the lawful exercise of rights to free speech and assembly and unvarnished vandalism. They have surrendered to mob rule, imperiling community safety, allowing for the wholesale violation of our laws, and privileging the violent impulses of the mob over the rights of law-abiding citizens. Worse, they apparently have lost the will or the desire to stand up to the radical fringe and defend the fundamental truth that America is good, her people are virtuous, and that justice prevails in this country to a far greater extent than anywhere else in the world. Some particularly misguided public officials even appear to have accepted the idea that violence can be virtuous and have prevented their police from enforcing the law and protecting public monuments, memorials, and statues from the mob's ropes and graffiti.

My Administration will not allow violent mobs incited by a radical fringe to become the arbiters of the aspects of our history that can be celebrated in public spaces. State and local public officials' abdication of their law enforcement responsibilities in deference to this violent assault must end.

Sec. 2. Policy. (a) It is the policy of the United States to prosecute to the fullest extent permitted under Federal law, and as appropriate, any person or any entity that destroys, damages, vandalizes, or desecrates a monument, memorial, or statue within the United States or otherwise vandalizes government property. The desire of the Congress to protect Federal property is clearly reflected in section 1361 of title 18, United States Code, which authorizes a penalty of up to 10 years' imprisonment for the willful injury of Federal property. More recently, under the Veterans' Memorial Preservation and Recognition Act of 2003, section 1369 of title 18, United States Code, the Congress punished with the same penalties the destruction of Federal and in some cases State-maintained monuments that honor military veterans. Other criminal statutes, such as the Travel Act, section 1952 of title 18, United States Code, permit prosecutions of arson damaging monuments, memorials, and statues on State grounds in some cases. Civil statutes like the Public System Resource Protection Act, section 100722 of title 54, United States Code, also hold those who destroy certain Federal property accountable for their offenses. The Federal Government will not tolerate violations of these and other laws.

(b) It is the policy of the United States to prosecute to the fullest extent permitted under Federal law, and as appropriate, any person or any entity that participates in efforts to incite violence or other illegal activity in connection with the riots and acts of vandalism described in section 1 of this order. Numerous Federal laws, including section 2101 of title 18, United States Code, prohibit the violence that has typified the past few weeks in some cities. Other statutes punish those who participate in or assist the agitators who have coordinated these lawless acts. Such laws include section 371 of title 18, United States Code, which criminalizes certain conspiracies to violate Federal law, section 2 of title 18, United States Code, which punishes those who aid or abet the commission of Federal crimes, and section 2339A of title 18, United States Code, which prohibits as material support to terrorism efforts to support a defined set of Federal crimes. Those who have joined in recent violent acts around the United States will be held accountable.

(c) It is the policy of the United States to prosecute to the fullest extent permitted under Federal law, and as appropriate, any person or any entity that damages, defaces, or destroys religious property, including by attacking, removing, or defacing depictions of Jesus or other religious figures or religious art work. Federal laws prohibit, under certain circumstances, damage or defacement of religious property, including the Church Arson Prevention Act of 1996, section 247 of title 18, United States Code, and section 371 of title 18, United States Code. The Federal Government will not tolerate violations of these laws designed to protect the free exercise of religion.

(d) It is the policy of the United States, as appropriate and consistent with applicable law, to withhold Federal support tied to public spaces from State and local governments that have failed to protect public monuments, memorials, and statues from destruction or vandalism. These jurisdictions' recent abandonment of their law enforcement responsibilities with respect to public monuments, memorials, and statues casts doubt on their willingness to protect other public spaces and maintain the peace within them. These jurisdictions are not appropriate candidates for limited Federal funds that support public spaces.

(e) It is the policy of the United States, as appropriate and consistent with applicable law, to withhold Federal support from State and local law enforcement agencies that have failed to protect public monuments, memorials, and statues from destruction or vandalism. Unwillingness to enforce State and local laws in the face of attacks on our history, whether because of sympathy for the extremists behind this violence or some other improper reason, casts doubt on the management of these law enforcement agencies. These law enforcement agencies are not appropriate candidates for limited Federal funds that support State and local police.

Sec. 3. Enforcing Laws Prohibiting the Desecration of Public Monuments, the Vandalism of Government Property, and Recent Acts of Violence. (a) The Attorney General shall prioritize within the Department of Justice the investigation and prosecution of matters described in subsections 2(a), (b), and (c) of this order. The Attorney General shall take all appropriate enforcement action against individuals and organizations found to have violated Federal law through these investigations.

(b) The Attorney General shall, as appropriate and consistent with applicable law, work with State and local law enforcement authorities and Federal agencies to ensure the Federal Government appropriately provides information and assistance to State and local law enforcement authorities in connection with their investigations or prosecutions for the desecration of monuments, memorials, and statues, regardless of whether such structures are situated on Federal property.

Sec. 4. Limiting Federal Grants for Jurisdictions and Law Enforcement Agencies that Permit the Desecration of Monuments, Memorials, or Statues. The heads of all executive departments and agencies shall examine their respective grant programs and apply the policies established by sections 2(d) and (e) of this order to all such programs to the extent that such application is both appropriate and consistent with applicable law.

Sec. 5. Providing Assistance for the Protection of Federal Monuments, Memorials, Statues, and Property. Upon the request of the Secretary of the Interior, the Secretary of Homeland Security, or the Administrator of General Services, the Secretary of Defense, the Attorney General, and the Secretary of Homeland Security shall provide, as appropriate and consistent with applicable law, personnel to assist with the protection of Federal monuments, memorials, statues, or property. This section shall terminate 6 months from the date of this order unless extended by the President.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) This order is not intended to, and does not, affect the prosecutorial discretion of the Department of Justice with respect to individual cases.

THE WHITE HOUSE,

June 26, 2020.

[FR Doc. 2020-14509

Filed 7-1-20; 11:15 am]

Billing code 3295-F0-P